Title 3—

The President

Proclamation 9864 of April 19, 2019

National Park Week, 2019

By the President of the United States of America

A Proclamation

Our National Parks System is a stunning tribute to our country's history, traditions, and heritage. Since the creation of Yellowstone National Park in 1872 by an Act of Congress, countless Americans have experienced the majesty, the wonder, the adventure, and the history of our national parks. Many leave with a deepened appreciation for the beauty of nature, the history of our country, and their place in the universe. During National Park Week, we celebrate our national parks and marvel with appreciation at the splendor of our Nation's landscapes and landmarks.

From sea to shining sea, America offers a vast array of national parks and monuments for the public to enjoy. The National Parks System includes 419 areas that cover more than 85 million acres. Each location is unique, offering a window into a particular chapter of the Nation's history, a lofty view from a mountaintop, or a fleeting glimpse of rarely seen wildlife. From the gorges of Yosemite to the fountains of the World War II Memorial, these sites provide millions of visitors each year with places of remembrance, reflection, and recreation. There is a park for each of our Nation's adventurers, no matter their age or interests.

We must give our parks special care and attention to preserve them and the special natural and cultural sites they contain. In recent years, however, many roads, buildings, utility systems, and other infrastructure systems in our national parks have not received important repairs or maintenance, creating a backlog of postponed work projects that totals nearly $12 billion. My Administration is committed to working with the Congress to significantly reduce this backlog, including through the establishment of a Public Lands Infrastructure Fund. In addition, through public-private partnerships, we are bringing together leaders from across the country to improve the management of our public lands. By working across government and with the private sector, we can preserve our parks for generations to come, and provide Americans with more opportunities to experience our country's exhilarating mountain peaks, calming valleys, scenic vistas, sprawling forests, and compelling historic cultural sites.

Laying the cornerstone for the gateway to Yellowstone National Park in 1903, President Theodore Roosevelt observed: “The essential feature in the present management of Yellowstone Park, as in all similar places, is its essential democracy—it is the preservation of the scenery, of the forests, of the wilderness life and the wilderness game for the people as a whole.” A century later, Teddy's vision for our national parks endures. As we observe National Park Week, I encourage Americans to take advantage of the accessibility of our national parks and to get outside and experience these magnificent natural and historic treasures.

NOW, THEREFORE, I, DONALD J. TRUMP, President of the United States of America, by virtue of the authority vested in me by the Constitution and the laws of the United States, do hereby proclaim April 20 through April 28, 2019, as National Park Week. I encourage all Americans to celebrate by visiting our national parks and learning more about the natural, cultural, and historical heritage that belongs to each and every citizen of the United States of America.

IN WITNESS WHEREOF, I have hereunto set my hand this nineteenth day of April, in the year of our Lord two thousand nineteen, and of the Independence of the United States of America the two hundred and forty-third.

[FR Doc. 2019-08407

Filed 4-23-19; 11:15 am]

Billing code 3295-F9-P